DEPARTMENT OF JUSTICE

Notice of Lodging of Settlement Agreement Under the Comprehensive Environmental Response, Compensation, and Liability Act and Chapter 11 of the United States Bankruptcy Code

Notice is hereby given that on August 11, 2011, a proposed Settlement Agreement (“Agreement”) in In re Barzel Industries Inc. et al., Case No. 09-13204 (CSS), was lodged with the United States Bankruptcy Court for the District of Delaware. The Agreement was entered into by the United States, on behalf of the United States Environmental Protection Agency (“EPA”) and Barzel Industries Inc. and certain of its affiliates (the “Debtors”). The Agreement relates to the liability of American Steel and Aluminum Corporation, one of the Debtors, under the Comprehensive Environmental Response, Compensation, and Liability Act of 1980, 42 U.S.C. 9601 et seq. (“CERCLA”), at the Peterson/Puritan Superfund Site, Second Operable Unit, located in Lincoln and Cumberland, Rhode Island (the “Site”).

The Agreement provides that EPA will have an allowed Class IV General Unsecured Claim under the Debtors' Plan of Liquidation in the amount of $260,828 (“EPA Allowed Claim”). The Agreement also provides that the United States may effect a setoff of the EPA Allowed Claim against a federal income tax refund requested by the Debtors with respect to the amount of such refund allocable to ASA. The Agreement also provides that if insurance proceeds are recovered by the Debtors on account of the EPA Allowed Claim, the Debtors shall pay the amount of such proceeds to EPA on a dollar-for-dollar basis. Under the Agreement, EPA has agreed not to bring a civil action or take administrative action against the Debtors pursuant to Sections 106 and 107(a) of CERCLA, 42 U.S.C. 9606 and 9607(a), and Section 7003 of the Resource Conservation and Recovery Act (“RCRA”), 42 U.S.C. 6973, relating to the Site.

For a period of 15 days from the date of this publication, the Department of Justice will receive comments relating to the Agreement. To be considered, comments must be received by the Department of Justice by the date that is 15 days from the date of this publication. Comments should be addressed to the Section Chief of the Environmental Enforcement Section, Environment and Natural Resources Division, and either e-mailed to pubcomment-ees.enrd@usdoj.gov or mailed to P.O. Box 7611, U.S. Department of Justice, Washington, DC 20044, and should refer to In re Barzel Industries Inc. et al., Case No. 09-13204 (CSS), D.J. Ref. No. 90-11-3-1233/7. A copy of the comments should be sent to Donald G. Frankel, Senior Counsel, Department of Justice, Environmental Enforcement Section, One Gateway Center, Suite 616, Newton, MA 02458 or e-mailed to donald.frankel@usdoj.gov.

The Agreement may be examined at the Office of the United States Attorney, District of Delaware, 1201 Market Street, Suite 1100, Wilmington, Delaware (contact Ellen Slights at 302-573-6277). During the public comment period, the Agreement may also be examined on the following Department of Justice Web site, http://www.usdoj.gov/enrd/Consent_Decrees.html. A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Agreement from the Consent Decree Library, please enclose a check in the amount of $3.50 (25 cents per page reproduction cost) payable to the U.S. Treasury (if the request is by fax or e-mail, forward a check to the Consent Decree library at the address stated above). Commenters may request an opportunity for a public meeting, in accordance with Section 7003(d) of RCRA, 42 U.S.C. 6973(d).

Ronald G. Gluck,
Assistant Section Chief, Environmental Enforcement Section Environment and Natural Resources Division.

[FR Doc. 2011-20779 Filed 8-15-11; 8:45 am]

BILLING CODE 4410-15-P